DEPARTMENT OF COMMERCE

National Oceanic and Atmospheric Administration

RIN 0648-XC066

November 2010 Biological Opinion on the Effects of the Alaska Groundfish Fisheries on Steller Sea Lions and Other Endangered Species; Public Meeting

AGENCY: National Marine Fisheries Service (NMFS), National Oceanic and Atmospheric Administration (NOAA), Commerce.

ACTION: Notice of public meeting; request for presentations.

SUMMARY: NMFS will host a meeting to conduct a panel review by experts contracted through the Center for Independent Experts (CIE) related to NMFS's November 2010 Biological Opinion on the effects of the Alaska groundfish fisheries on Steller sea lions and other endangered species (Final Biop). The meeting will provide an opportunity for the CIE reviewers to receive presentations from NMFS, the State of Alaska, the State of Washington, the North Pacific Fishery Management Council, and the public concerning new and relevant scientific information that has become available since NMFS issued the Final Biop. NMFS requests that parties interested in presenting such information to the CIE reviewers submit a statement of interest including an abstract of the information to be presented.

DATES: The meeting will be held August 1-2, 2012, from 9 a.m.-4:30 p.m. Pacific Daylight Time. Statements of interest and abstracts must be received by 5 p.m. Alaska Daylight Time on July 2, 2012, to be considered for presentation during the meeting on August 2, 2012.

ADDRESSES: Send statements of interest in making a presentation and abstracts to Jon Kurland, Assistant Regional Administrator for Protected Resources, NMFS, by any one of the following methods:

• Fax: 907-586-7012.

• Mail: P.O. Box 21668, Juneau, AK 99802.

• Email: jon.kurland@noaa.gov

• Hand delivery to the Federal Building: 709 West 9th Street, Room 420A, Juneau, Alaska.

The meeting will be held at NMFS Alaska Fisheries Science Center, 7600 Sand Point Way NE., Building 4, Seattle, WA, 98115, in the Jim Traynor conference room.

The CIE contract statement of work (SOW) and terms of reference (TORs) and documents subject to the CIE review are available on the NMFS Alaska Region Web site at www.alaskafisheries.noaa.gov/protectedresources/stellers/esa/biop/final/cie/review.htm.

FOR FURTHER INFORMATION CONTACT: Jon Kurland, 907-586-7638.

SUPPLEMENTARY INFORMATION:

Background

NMFS contracted with the CIE to conduct a peer review of the November 2010 Biological Opinion on the Alaska groundfish fisheries (Final Biop), which NMFS prepared under Section 7 of the Endangered Species Act (ESA). The CIE is a group affiliated with the University of Miami that provides independent peer reviews of the science upon which many of NMFS's management decisions are based, including reviews of stock assessments for fish and marine mammals. The structure and operation of the CIE are designed to ensure the quality, relevance, and independence of the reviews. Independence is maintained by eliminating any role for NMFS in selecting or paying the reviewers or in approving the content of reviewers' reports. Reviewers must adhere to a strict conflict of interest policy and the SOW and TORs contained in the review contract.

The ESA requires each federal agency to insure than any action authorized, funded, or carried out by the agency is not likely to jeopardize the continued existence of any threatened or endangered species or adversely modify or destroy designated critical habitat. Action agencies must consult with NMFS or the U.S. Fish and Wildlife Service regarding any action that may affect listed species. For fisheries managed under the Magnuson-Stevens Fishery Conservation and Management Act, NMFS is the action agency and must complete the consultation internally, involving its Sustainable Fisheries Division (responsible for authorization of the fisheries) and Protected Resources Division (responsible for implementing the ESA).

The subject of the CIE review is the scientific information used for, and analysis contained in, the Final Biop; and new scientific information relevant to Steller sea lions and fisheries since completion of the Final Biop. The review consists of two chapters: (1) A desk review of the Final Biop including information available to NMFS through September 3, 2010, and (2) a panel review of new information that became available subsequent to the Final Biop. NMFS expects to receive a final report from the CIE review on September 7, 2012.

Terms of Reference

The following TORs provide the parameters for the CIE review. The CIE reviewers must address each of the items specified in the TORs and must not address other issues than those specifically enumerated.

Tasks specific to developing Chapter 1 (desk review of Final Biop):

1. Read the Final Biop (November 24, 2010) on the Bering Sea and Aleutian Islands and Gulf of Alaska groundfish fisheries; and state waters parallel groundfish fisheries and related background documents (provided by NMFS) and the recovery plan (see ADDRESSES for a link to these documents).

2. Provide a scientific peer review and comment on the Final Biop, including scientific information available to NMFS through the end of the public comment period (September 3, 2010) for the Draft Biop, evaluate the scientific information and its interpretation that developed the rationale and the subsequent findings regarding factors potentially affecting Steller sea lion population status, vital rates, critical habitat, risk of extinction, and recovery including in particular the findings regarding the effects of fisheries on Steller sea lion population status, vital rates, and critical habitat. Address the following:

a. Does the Final Biop thoroughly and accurately (i.e. using the best available scientific information) describe what is known about the status of the listed species?

b. Does the Final Biop thoroughly and accurately describe what is known about groundfish fishery practices and catch statistics under the current ongoing “status quo” action, as defined in the Final Biop?

c. While the agency is directed to evaluate the effects of the action on listed species and critical habitat, does the Final Biop also adequately address alternative scientific explanations to the apparent population dynamics of the western distinct population segment (WDPS) of Steller sea lion, such as (but not limited to) predation, disease, ecosystem/carrying capacity, or emigration?

d. Does the Final Biop thoroughly and accurately assess the effects (direct and indirect) of the action on the listed species and its critical habitat?

e. Evaluate the scientific weight of the evidence presented in the Final Biop. Does the evidence provide strong, moderate or weak support for the discussion, findings and conclusions made in the document?

3. Reviewers shall evaluate the quality and completeness of the scientific and commercial information used in the Final Biop analysis, and identify if the Final Biop analysis is comprehensive or if there are relevant scientific or commercial data or information that were not used in the Final Biop analysis.

4. Reviewers are specifically asked to evaluate the scientific basis for the nutritional stress findings of the Final Biop. Reviewers shall evaluate and comment on the strength of the linkages among fish biomass estimates, fishery removals, Steller sea lion reproductive rates, and recovery of the WDPS. Does the Final Biop accurately evaluate the inter-relationships between Steller sea lion population status and trends, foraging ecology, and groundfish fisheries effects across broad geographic areas (ecosystems to highly localized regions) and temporal scales (years to seasons)?

5. Reviewers will determine if there is any additional literature, assessments, or analyses that should have been considered in the Final Biop (as of the end of the public comment period for the Draft Biop, September 3, 2010).

6. In making these evaluations, reviewers shall consider and address the following questions:

a. Are the findings of the Final Biop contradicted by any scientific information available as of September 3, 2010 presented in, or omitted from, the Final Biop?

b. As part of this consideration, reviewers shall also assess the scientific record to determine whether adequate consideration has been given to the likelihood that factors other than fishing are negatively affecting the population status, critical habitat or recovery of the WDPS including predation, changes in the ecosystem or carrying capacity, emigration, exposure to contaminants, or other factors.

Tasks specific to Chapter 2 (panel review meeting):

1. Reviewers will convene as a Panel and will conduct a scientific peer review during the panel review meeting in Seattle. In addition to scientific presentations regarding the Final Biop analysis and related scientific information, the meeting will include presentations by experts from environmental organizations, the fishing industry, affected communities, and other agencies and institutions. The Panel will conduct the peer review in accordance with the TORs for Chapter 2 and consider all relevant scientific information available up to the date of the Panel meeting. Refer to Annex 3 of the CIE review contract for listing of report and background documents (see ADDRESSES).

2. Following the same TORs identified for Chapter 1 of the CIE review, the reviewers will reexamine the Final Biop, its scientific record and any new information available subsequent to the issuance of the Final Biop and may provide additional commentary on the findings they made in Chapter 1 based on scientific information that arises through the panel presentations. This re-visitation of Chapter 1 shall be part of Chapter 2 of the report. As part of this commentary the reviewers are tasked to reevaluate the scientific basis for the conclusions of the Final Biop, that fisheries are causing nutritional stress in Steller sea lions, which in turn is adversely impacting the survival and recovery of the WDPS of the Steller sea lion. The reviewers shall evaluate and comment on the strength of the relationship between fishery removals and recovery of the WDPS.

3. The Reasonable Prudent Alternative (RPA) presented in the Final Biop (Section 8.3.4 of the Final Biop) and as implemented through an Interim Final Rule (75 FR 77535, December 13, 2010) may present an opportunity for an adaptive management experiment to test the response of fisheries and Steller sea lions to the fisheries closures implemented by the interim final rule. Reviewers will be asked to (1) comment on the utility of this opportunity, (2) evaluate the metrics identified in the Final Biop (e.g., trends in Steller sea lion abundance, trends in biomass of Atka mackerel and other groundfish, etc.), and (3) suggest other metrics not described in the Final Biop that could be used to evaluate the efficacy of the action in ensuring the groundfish fisheries are not likely to adversely affect the survival and recovery of WDPS of the Steller sea lion.

CIE Panel Review

The CIE panel review will focus on Chapter 2 from the TORs. Persons or groups wishing to make a presentation to the CIE reviewers must submit a statement of interest with a brief (one page or less) abstract of the type of information to be presented. Presentations must address new scientific information germane to Steller sea lions and the groundfish fisheries that was not available before September 3, 2010. Persons or groups proposing to present information that does not fall within the TORs for the CIE review will not be invited to make presentations.

Due to the limited time available for the panel review, NMFS encourages individuals or groups that may have similar perspectives on the pertinent scientific information to coordinate their proposed presentations into subject specific panels to present the information effectively and minimize redundancy. For example, a panel could be comprised of several fishing industry representatives or several representatives of non-governmental organizations, with each participant addressing a different facet of the relevant information.

NMFS will review the statements of interest, abstracts, and proposed panels and, in consultation with the CIE reviewers, will schedule the presentations so as to focus on the most relevant scientific information of interest to the reviewers. The amount of time available per presenter or panel will depend on the number of persons and groups wishing to make presentations. NMFS will contact the proposed presenters in advance of the meeting to specify the amount of time available and the approximate schedule. During the meeting presenters may provide additional written information to the CIE reviewers for consideration, but the CIE reviewers are not obligated under the contract to review documents beyond those identified in the SOW.

More information on the CIE review, including the full SOW and TORs and all written materials for review identified in the SOW, is available on the NMFS Alaska Region Web site (see ADDRESSES).

Arrangements for Foreign Nationals

Individuals wishing to attend the meeting who are not citizens of the United States must make prior arrangements to be permitted entrance to the Alaska Fisheries Science Center (see ADDRESSES). Requests for such arrangements should be directed to Jennifer Ferdinand by email at jennifer.ferdinand@noaa.gov by July 23, 2012.

Special Accommodations

These meetings are physically accessible to people with disabilities. Requests for sign language interpretation or other auxiliary aids should be directed to Jennifer Ferdinand, (206) 526-4076, at least 5 working days prior to the meeting date.

Dated: June 6, 2012.
Helen Golde,
Acting Director, Office of Protected Resources, National Marine Fisheries Service.

[FR Doc. 2012-14151 Filed 6-8-12; 8:45 am]

BILLING CODE 3510-22-P